DEPARTMENT OF AGRICULTURE

Forest Service

Idaho Panhandle National Forests, Idaho; Idaho Panhandle National Forest Noxious Weed Treatment Project

AGENCY: Forest Service, USDA.

ACTION: Notice of intent to prepare an environmental impact statement.

SUMMARY: The Forest Service will prepare an Environmental Impact Statement (EIS) for a proposal to manage non-native invasive plant (NNIP) species on National Forest System (NFS) lands within the boundaries of the Idaho Panhandle National Forests (IPNF). This area is approximately 2.5 million acres in size and includes portions of the following states and counties; Benewah, Bonner, Boundary, Clearwater, Shoshone, Kootenai and Latah counties in Idaho; Lincoln and Sanders counties in Montana; and Pend Oreille County in Washington. The proposal includes both an Integrated Weed Management (IWM) approach as well as an adaptive management strategy to prevent or limit the introduction, establishment and/or spread of NNIP. The use of registered herbicides is one of the various treatment methods that are proposed. The overall project goal is to reduce the undesirable impacts that these invasive species can have on native plant communities and other ecological, social or economic values.

DATES: Comments concerning the scope of the analysis must be received by December 16, 2011. The draft environmental impact statement is expected March 2012 and the final environmental impact statement is expected September 2012.

ADDRESSES: Send written comments to David Cobb, Idaho Panhandle National Forests Noxious Weed Treatment Project Team Leader, at the Priest Lake Ranger District, 32203 Highway 57, Priest River, ID 83856; Fax (208) 443-6845. You may also hand-deliver your comments to the above address during normal business hours from 8 a.m. to 4:30 p.m. Monday through Friday, excluding federal holidays. Electronic comments may be submitted to comments-northern-idpanhandle-priest-lake@fs.fed.us. in a format such as an email message, plain text (.txt), rich text format (.rtf), or Word (.doc).

FOR FURTHER INFORMATION CONTACT: David Cobb, Priest Lake Ranger District, 32203 Highway 57, Priest River, ID 83856, phone (208) 443-6854, email dcobb@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The overall goal for proposing this project is to reduce the undesirable impacts that these NNIP species have on native plant communities and other ecological, social or economic values. The specific purpose of this project is to: (1) Reduce the likelihood that new NNIP species (i.e. potential invaders) are introduced and become established; (2) prevent or limit the spread of existing invaders and established NNIP species into areas with few or no infestations, and/or into areas where the potential to harm ecological, social or economic values is high; (3) rapidly respond to new, small or recently discovered infestations before they become well established, and respond utilizing the most efficient and effective treatment method(s); (4) encourage beneficial native vegetation and weed resistant plant communities and; (5) increase public and agency use of weed prevention practices and general awareness of weeds. Currently, each of the five Ranger Districts on the IPNF has an approved NNIP management plan and supporting EIS. Those plans were adopted between 11 and 16 years ago. Since then, numerous NNIP species have been added to the potential and new invader list, and new treatment tools, methods and adaptive management strategies have been developed that are currently not authorized for use on the IPNF. In order to be more effective and efficient in reducing the undesirable impacts of NNIP, the Forest needs to be able to utilize these newer tools and strategies. Given that funding for control has been declining in recent years, this need has become even stronger. The proposed action would allow the IPNF to become more responsive to Federal, State, and Forest Service laws, regulations, policies and direction regarding the management of NNIP.

Proposed Action

The IPNF proposes to implement a Forest-wide, Integrated Weed Management (IWM) approach to manage NNIP species on National Forest System lands within the boundaries of the IPNF. The IWM approach incorporated into the proposal includes: Inventory and assessment activities, prevention and education elements, treatment actions, implementation and effectiveness monitoring, and restoration activities. The IWM program is based on ecological factors and includes consideration of site conditions, other resource values and uses, NNIP characteristics, and potential effectiveness of control measures for specific circumstances. The proposal includes both non-treatment and treatment practices such as: Strategies for awareness and education in order to prevent new infestations; early detection of and rapid response to newly discovered infestations; control of outbreaks of existing infestations that threaten sensitive and native habitats; containment of established infestations by maintaining treatments along spread pathways and previously treated areas; use of all treatment “tools” such as chemical, manual and biological treatment followed by restoration and revegetation (as appropriate), as well as monitoring of NNIP-impacted lands; and close coordination across jurisdictional boundaries through cooperative partnerships. The treatment activities that are proposed are based on integrated pest management principles and methods known to be effective for each target NNIP species. They include, but are not limited to, manual techniques such as pulling; cultural practices such as the use of certified noxious weed-free hay; biological control agents such as pathogens and insects; and herbicides that target specific invasive plant species. The application of herbicides would be ground based only. No aerial treatment activities are proposed. Spot and selective spraying would be the primary method of applying herbicide in order to target individual and groups of invasive plants; however some broadcast herbicide spraying (from trucks or ATV equipment) would occur. Specific design features would be applied to minimize or eliminate the potential for plant treatments to adversely affect non-target plants, animals, human health, water quality and aquatic organisms. Mulching, seeding and planting of competitive, desirable vegetation may occur to restore previously infested sites. In addition to using an IWM approach, the proposal incorporates an adaptive management strategy in order to quickly respond to new NNIP species and new infestations that are located during the life of the project. This quick reaction is known as an Early Detection Rapid Response (EDRR) and is designed to allow timely control so that new infestations can be treated when they are small in order to reduce costs as well as any detrimental effects of treatment. The adaptive strategy would also allow the use of new treatment tools and methods that are developed during the life of the project. The proposal allows most types of treatments to occur anywhere on Forest Service system lands on the IPNF. However, the use of herbicides in the Salmo-Priest wilderness area would be restricted to trailheads, roads immediately adjacent to the wilderness boundary, and short distances along trails near trailhead locations. Based on current funding levels, it is expected that approximately 3,000 acres would be treated annually across the Forest with the majority of these acres being treated using some form of a ground-based herbicide application method. If a significant amount of additional funding were available and monitoring efforts identify the need, up to an additional 3,000 acres could potentially be treated annually. The proposal would treat a maximum of 5,500 acres annually with herbicides (less than a quarter of one percent of the IPNF). No limit is proposed on the number of acres that may be treated using non-herbicide treatment methods. Most of the treatment activities would occur along travel or utility corridors (e.g. roads, trails, powerline clearings) or other disturbed areas such as campgrounds, trailheads, recent timber harvest areas, gravel pits, ski areas, fire camps, mines, helispots, ranger stations and burned areas. One of the prevention elements incorporated into the proposed action includes requiring any hay or straw type products that are stored or possessed on NFS lands be state certified weed free. Where opportunities exist, activities would be planned and implemented in cooperation with other federal, state, and local agencies as well as private individuals.

Responsible Official

Forest Supervisor, Idaho Panhandle National Forests, 3815 Schreiber Way, Coeur d'Alene, ID 83815.

Nature of Decision To Be Made

Given the purpose and need, the environmental analysis in the EIS and consideration of public comments, the Forest Supervisor will make the following decisions; (1) Whether or not to expand or modify the current efforts to manage NNIP species; (2) whether to use one, or a combination of several methods of control including mechanical, chemical, or biological methods, and if so: (a) When and under what terms and conditions the Forest Service would conduct such activities; (b) what, if any, measures would be needed to meet Forest Plan Goals and Standards; and (c) what mitigation and monitoring measures would be required? Decisions that would not be made based on the analysis are: (1) Changes in land use and Forest Plan direction; (2) changes in the level of wildfire suppression, strategies, tactics, and whether or not to control wildfire; (3) changes in travel management, road use, and forest access; (4) prevention measures that minimize the establishment and spread of NNIP that are already part of Forest Service policy and recent decisions; (5) environmental protection agency established Reference Doses and related EPA toxicological thresholds; and (6) ecological and toxicological conclusions and data included in the Forest Service/Syracuse Environmental Research Associates Human Health and Ecological Risk Assessments.

Permits or Licenses Required

Pesticide application licenses will be required for those implementing this project. Pesticide Use Proposals for wilderness areas would need to be signed by the Regional Forester; otherwise Pesticide Use Proposals are signed by the Forest Supervisor. This project may involve riparian herbicide applications that are subject to the National Pollutant Discharge Elimination System (NPDES) permit requirements. If needed, NPDES permits would be acquired prior to project implementation.

Scoping Process

This notice of intent initiates the scoping process which guides the development of the environmental impact statement. Comments that would be most useful are those concerning developing or refining the proposed action, in particular those that can help us develop treatments that would be responsive to our goal to control, contain, or eradicate NNIP. It is important that reviewers provide their comments at such times and in such manner that they are useful to the agency's preparation of the environmental impact statement. Therefore, comments should be provided prior to the close of the comment period and should clearly articulate the reviewer's concerns and contentions. No public meetings are planned for the scoping effort.

Comments received in response to this solicitation, including names and addresses of those who comment, become part of the public record for this proposed action. Comments submitted anonymously will be accepted and considered, however.

Dated: October 21, 2011.
Mary Farnsworth,
Forest Supervisor.

[FR Doc. 2011-29552 Filed 11-15-11; 8:45 am]

BILLING CODE 3410-11-P